DEPARTMENT OF JUSTICE

[OMB Number 1122-0006]

Agency Information Collection Activities; Proposed eCollection eComments Requested; Extension of a Previously Approved Collection; Semiannual Progress Report for the Improving Criminal Justice Responses to Sexual Assault, Domestic Violence, Dating Violence, and Stalking Grant Program

AGENCY: Office on Violence Against Women, Department of Justice.

ACTION: 60-Day notice.

SUMMARY: The Office on Violence Against Women, Department of Justice (DOJ), will be submitting the following information collection request to the Office of Management and Budget (OMB) for review and approval in accordance with the Paperwork Reduction Act of 1995.

DATES: Comments are encouraged and will be accepted for 60 days until January 6, 2025.

FOR FURTHER INFORMATION CONTACT: If you have additional comments especially on the estimated public burden or associated response time, suggestions, or need a copy of the proposed information collection instrument with instructions or additional information, please contact Catherine Poston, Attorney Advisor, Office on Violence Against Women, 145 N Street NE, Washington, DC 20530 at 202-514-5430 or Catherine.poston@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Grants to Improve the Criminal Justice Response (ICJR Program) is designed to encourage partnerships among State, local, and Tribal governments, courts, victim service providers, coalitions, and rape crisis centers to improve the criminal justice response to domestic violence, sexual assault, dating violence, and stalking as serious violations of criminal law, and to seek safety and autonomy for victims.

The ICJR Program challenges communities to work collaboratively to identify problems and share ideas that will result in effective responses to ensure victim safety and offender accountability. A coordinated community response that brings together effective partners from the local government including law enforcement agencies, prosecutors' offices and courts, nonprofit organizations, and population specific organizations is critical to the ICJR Program.

Eligible applicants are States and territories, units of local government, Indian Tribal governments, State, local, Tribal, and territorial courts, victim service providers, State and Tribal coalitions, and government rape crisis centers. This program is authorized by 34 U.S.C. 10461-10465.

Overview of This Information Collection

1. Type of Information Collection: Extension of a previously approved collection.

2. The Title of the Form/Collection: Semiannual Progress Report for the Improving Criminal Justice Responses to Sexual Assault, Domestic Violence, Dating Violence, and Stalking Grant Program.

3. The agency form number, if any, and the applicable component of the Department sponsoring the collection: 1122-0006.

4. Affected public who will be asked or required to respond, as well as the obligation to respond: The affected public includes 200 grantees from the ICJR Program which encourages State, local, and Tribal governments and State, local, and Tribal courts to treat domestic violence, dating violence, sexual assault, and stalking as serious violations of criminal law requiring the coordinated involvement of the entire criminal justice system. Eligible applicants are States and territories, units of local government, Indian Tribal governments, coalitions, victim service providers and State, local, Tribal, and territorial courts.

5. An estimate of the total number of respondents and the amount of time estimated for an average respondent to respond: It is estimated that it will take the approximately 200 respondents (ICJR Program grantees) approximately one hour to complete a semi-annual progress report. The semi-annual progress report is divided into sections that pertain to the different types of activities in which grantees may engage. An ICJR Program grantee will only be required to complete the sections of the form that pertain to its own specific activities (victim services, law enforcement, training, etc.).

6. An estimate of the total annual burden (in hours) associated with the collection: The total annual hour burden to complete the data collection forms is 400 hours, that is 200 grantees completing a form twice a year with an estimated completion time for the form being one hour.

7. The total annual hour burden to complete the data collection forms is 400 hours, that is 200 grantees completing a form twice a year with an estimated completion time for the form being one hour.

8. An estimate of the total annual cost burden associated with the collection, if applicable: The annualized costs to the Federal Government resulting from the OVW staff review of the progress reports submitted by grantees are estimated to be $11,200.

Total Burden Hours
Activity | Number of respondents | Frequency | Total annual responses | Time per response (hours) | Total annual burden (hours)
Progress Report Form | 200 | 2/semiannually | 400 | 1 | 400
Unduplicated Totals | 200 |  | 400 |  | 400

If additional information is required contact: Darwin Arceo, Department Clearance Officer, United States Department of Justice, Justice Management Division, Policy and Planning Staff, Two Constitution Square, 145 N Street NE, 4W-218, Washington, DC.

Dated: October 31, 2024.
Darwin Arceo,
Department Clearance Officer for PRA, U.S. Department of Justice.

[FR Doc. 2024-25664 Filed 11-4-24; 8:45 am]

BILLING CODE 4410-FX-P